POSTAL SERVICE

39 CFR Part 111

Alternative Addressing Formats

AGENCY: Postal Service.

ACTION: Final rule.

SUMMARY: This final rule revises Domestic Mail Manual (DMM™) A020 to standardize when alternative addressing formats may be used and to clarify the differences between the various formats. In addition, postage payment options for use on mailpieces with simplified addresses are specified, prohibiting the use of uncanceled stamps, to enable efficient handling and processing of this mail. Corresponding sections of DMM E050 and F010 also are revised.

EFFECTIVE DATE: April 1, 2004.

FOR FURTHER INFORMATION CONTACT: Bill Chatfield, William.A.Chatfield@usps.gov or 703-292-3964.

SUPPLEMENTARY INFORMATION: In a proposed rule published in the Federal Register on May 30, 2003 (68 FR 32448-32450), the Postal Service presented for public comment revised DMM language that would clarify the mailing standards defining the use of alternative addressing formats. Three types of alternative addressing formats may be used in lieu of the typical addressing format (i.e., addressee name, address, city, state, and ZIP Code). These alternative addressing formats include a simplified address format (such as “Postal Customer”) with no actual delivery address, an occupant address format with a generic customer reference and a specific delivery address, and an exceptional address format with traditional addressing elements and a current resident alternative to provide for delivery to the address even if the specific addressee is no longer at the address.

Restrictions on the type of mail for which these formats may be used were more stringent for the exceptional address format than for the simplified or occupant address formats, although the same complications (such as accountable mail being addressed to a generic addressee) could arise for mail addressed using any of the three alternative addressing formats.

New section A020.1.0 is added to the DMM to standardize the types of mail that may be mailed with any alternative addressing format. A020.1.2 extends the current prohibitions for combining exceptional address mail with certain categories of mail and services to all types of alternatively addressed mail. Since each type of alternative address provides for a nonspecific addressee name, the same restrictions currently placed only on mail with the exceptional address format are extended to any mail with an alternative address format.

A020.1.3 explains treatment of all undeliverable mail having alternative addresses. A qualifying phrase (“related solely to the address”) is added after “undeliverable for another reason,” since there are reasons indicated in Exhibit F010.4.1 that have to do with the name (e.g., “Attempted-Not Known” and “Deceased”) that are not valid reasons to return this type of mail. A020.1.3 expands the treatment of undeliverable mail to include undeliverable mail with any alternative address format.

A020.2.1 explains the use of the term “Rural Route Boxholder” as compared with “Postal Customer”.

Under A020.2.4, regarding postage payment, the rewording prohibits the use of uncanceled stamps on simplified address mail. Cancellation would require taking apart the packaging and repackaging the mail, which is inefficient.

DMM F010.4.0 and 5.0 amend the limitations on using mail with alternative address formats as noted in A020.1.2.

Comments

The Postal Service received one comment to its proposed rule. The commenter was a newspaper publisher who wanted to verify that simplified addresses were still allowed on saturation mail to rural route addresses. This is affirmed.

For the reasons presented in the proposed rule and those noted above, the Postal Service adopts the following changes to the Domestic Mail Manual, which is incorporated by reference in the Code of Federal Regulations. See 39 CFR 111.

List of Subjects in 39 CFR Part 111

Administrative practice and procedure, Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Amend the following sections of the Domestic Mail Manual as set forth below:

Domestic Mail Manual (DMM)

A—ADDRESSING

A000 Basic Addressing

* * * * *

A020 Alternative Addressing Formats

Summary

[Revise text to read as follows:]

A020 specifies the conditions for use and treatment of mail bearing alternative addressing formats. These formats are the simplified address format (i.e., “Postal Customer” in lieu of specific name and address); the occupant address format (i.e., “Occupant” in lieu of specific name, followed by specific address); and the exceptional address format (i.e., “Jane Doe or Current Occupant,” followed by specific address).

[Renumber current 1.0 through 3.0 as new 2.0 through 4.0. Add new 1.0 to read as follows:]

1.0 General Use and Treatment

1.1 Use

Alternative addressing formats may be used as described in 2.0 through 4.0.

1.2 Prohibited Use

Alternative addressing formats may not be used on:

a. Express Mail® pieces.

b. Mail with any special service under S900.

c. Mail with any ancillary service endorsement under F010.

d. Periodicals intended to count as subscriber or requester copies to meet the applicable circulation standards.

e. Mail addressed to an overseas military post office under A010.6.0.

1.3 Treatment

Mail with an occupant or an exceptional address format is delivered as addressed and is not forwarded. Such mail is treated as undeliverable only when the address is incorrect or incomplete or when the mail cannot be delivered for another reason related solely to the address (e.g., a vacant building), as shown in Exhibit F010.4.1. Periodicals publishers are notified only when mailpieces with the occupant or exceptional address formats are undeliverable for solely address-related reasons. Mail with a simplified address format is distributed to all deliveries on a route or to Post Office boxholders. Undeliverable mail with any alternative addressing format is disposed of as waste under F010.8.1.

2.0 Simplified Address

2.1 Use-Rural and Highway Contract Routes, PO Boxholders

[Revise text of renumbered 2.1 to read as follows:]

The simplified address format (i.e., “Postal Customer”) may be used on mail only when complete distribution (except as provided for congressional mail under E050) is made to each family or boxholder on a rural or highway contract route at any Post Office and/or to all Post Office boxholders at a Post Office without city carrier service. The Post Office name and state may be added after the simplified address. The word “Local,” instead of the Post Office name and state, is optional. Also, a more specific address may be used, such as the following options:

a. “Rural Route Boxholder” for mail intended to all boxholders on a rural route.

b. “Highway Contract Route Boxholder” for mail intended to all boxholders on a highway contract route.

c. “Post Office Boxholder” for mail intended to all Post Office boxholders.

2.2 Use—City Routes, P.O. Boxholders

[Revise introductory text of renumbered 2.2 to read as follows:]

When distribution is to be made to each active possible delivery on city carrier routes or to each Post Office boxholder at a Post Office with city carrier service, the addressee's name; mailing address; and city, state, and ZIP Code may be omitted from the address only on pieces mailed as official matter by agencies of the federal government (including mail with the congressional frank prepared under E050); any state, county, or municipal government; and the governments of the District of Columbia, the Commonwealth of Puerto Rico, and any U.S. territory or possession listed in G010. The requirement for distribution to each stop or Post Office boxholder may be modified for congressional mail under E050. The following also applies:

* * * * *

2.4 Postage

[Revise text of renumbered 2.4 to read as follows:]

Postage must be paid with permit imprint, meter indicia, precanceled stamps, or other authorized methods not requiring cancellation, according to the standards for the class of mail.

* * * * *

[Delete renumbered 2.6, 3.2, 4.2, and 4.4. Renumber current 4.3 as new 4.2.]

* * * * *

E ELIGIBILITY

E000 Special Eligibility Standards

* * * * *

E050 Official Mail (Franked)

* * * * *

2.0 Addressing

* * * * *

2.2 Alternative Addressing

[Revise text of 2.2 to read as follows:]

Mail sent under the franking privilege of a member of or member-elect to Congress or a delegate, delegate-elect, resident commissioner, or resident commissioner-elect to the U.S. House of Representatives may be addressed under the alternative addressing formats in 2.0 through 4.0 for delivery to customers within the congressional district, state, or area that he or she represents. A member of the House of Representatives may not, under the franking privilege, use the alternative addressing formats to send mail outside the congressional district that he or she represents. Any representative at large may send franked mail with the simplified address format to Postal Service customers within the entire state that he or she represents.

* * * * *

2.4. Delivery

[Revise text of 2.4 to read as follows:]

Mail with a simplified address format is delivered within the district, state, or area to any of the following:

a. Each boxholder or family on a rural or highway contract route.

b. Each Post Office boxholder.

c. Each active possible delivery on city carrier routes.

d. For deliveries under 2.4a and 2.4c, partial distribution of simplified address mailings is permitted only when the carrier's delivery territory crosses congressional district boundaries. In these cases, complete distribution is made to the portion of the route within a single congressional district.

* * * * *

F FORWARDING AND RELATED SERVICES

F000 Basic Services

F010 Basic Information

* * * * *

4.0 Basic Treatment

* * * * *

Exhibit 4.1 USPS Endorsements for Mail Undeliverable as Addressed

* * * * *

[Revise the footnote to read as follows:]

*Alternative addressing formats may not be used on the following: Express Mail pieces; mail with any special service; mail sent with any ancillary service endorsement; or mail sent to any overseas military post office. When an alternative addressing format is used on Periodicals pieces, the publisher is notified of nondelivery only for those reasons marked with an asterisk (*).

* * * * *

5.0 Class Treatment for Ancillary Services

5.1 First-Class Mail and Priority Mail

* * * * *

[Revise item b to read as follows:]

b. Alternative addressing formats under A020 may not be used on mail with any ancillary service endorsement or mail with any special service. Forwarding service is not provided for such mail. Undeliverable First-Class Mail® pieces with any alternative addressing format are returned with the reason for nondelivery attached only if the address is incorrect or incomplete or the mail is undeliverable for another reason as shown in Exhibit 4.1.

* * * * *

5.2 Periodicals

* * * * *

[Revise item b to read as follows:]

b. Publications with an alternative addressing format under A020 are delivered to the address when possible. Forwarding service is not provided for such mail. Periodicals publishers are notified only when mailpieces with the occupant or exceptional address formats are undeliverable for solely address-related reasons.

* * * * *

Neva R. Watson,
Attorney, Legislative.

[FR Doc. 04-5566 Filed 3-10-04; 8:45 am]

BILLING CODE 7710-12-P